DEPARTMENT OF TRANSPORTATION

Maritime Administration

[Docket No. MARAD-2018-0019]

Request for Comments on the Renewal of a Previously Approved Information Collection: Determination of Fair and Reasonable Rates for the Carriage of Agricultural Cargoes on U.S. Commercial Vessels—46 CFR

AGENCY: Maritime Administration, Department of Transportation.

ACTION: Notice and request for comments.

SUMMARY: In compliance with the Paperwork Reduction Act of 1995, this notice announces that the Information Collection Request (ICR) abstracted below is being forwarded to the Office of Management and Budget (OMB) for review and comments. The information collection is used by MARAD in determining Fair & Reasonable rates for the carriage of bulk and packaged agriculture preference cargoes on U.S.-flag commercial vessels. A Federal Register Notice with a 60-day comment period soliciting comments on the following information collection was published on November 14, 2017 (Federal Register 52771, Vol. 82, No. 218).

DATES: Comments must be submitted on or before March 14, 2018.

ADDRESSES: Send comments regarding the burden estimate, including suggestions for reducing the burden, to the Office of Management and Budget, Attention: Desk Officer for the Office of the Secretary of Transportation, 725 17th Street NW, Washington, DC 20503. Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Albert Bratton, Telephone Number: (202) 366-5769, Office of Financial Approvals, Maritime Administration, U.S. Department of Transportation, 1200 New Jersey Avenue SE, Washington, DC 20590.

SUPPLEMENTARY INFORMATION: Title: Determination of Fair and Reasonable Rates for the Carriage of Agricultural Cargoes on U.S. Commercial Vessels—46 CFR.

OMB Control Number: 2133-0514.

Type of Request: Renewal of a Previously Approved Information Collection.

Abstract: This collection of information requires U.S.-flag operators to submit annual vessel operating costs and capital costs data to Maritime Administration officials. The information is used by the Maritime Administration in determining fair and reasonable guideline rates for the carriage of preference cargoes on U.S.-flag vessels. In addition, U.S.-flag vessel operators are required to submit Post Voyage Reports to the Maritime Administration after completion of a cargo preference voyage.

Respondents: U.S. citizens who own and operate U.S.-flag vessels.

Affected Public: Business or other for profit.

Estimated Number of Respondents: 41.

Estimated Number of Responses: 68.

Annual Estimated Total Annual Burden Hours: 176.

Frequency of Response: Annually.

(Authority: The Paperwork Reduction Act of 1995; 44 U.S.C. Chapter 35, as amended; and 49 CFR 1.93.)

* * * * *

By Order of the Maritime Administrator.
Dated: February 6, 2018.
T. Mitchell Hudson, Jr.,
Secretary, Maritime Administration.

[FR Doc. 2018-02699 Filed 2-9-18; 8:45 am]

BILLING CODE 4910-81-P